DEPARTMENT OF LABOR

Employment and Training Administration

[TA-W-41,239]

Enerflex, Inc., Cedar Mountain, North Carolina; Notice of Revised Determination on Reconsideration

By application of June 23, 2002, the company requested administrative reconsideration regarding the Department's Negative Determination Regarding Eligibility to Apply for Worker Adjustment Assistance, applicable to the workers of the subject firm.

The initial investigation resulted in a negative determination based on the fact that the workers did not produce an article as required for certification under Section 222 of the Trade Act. The denial notice was published in the Federal Register on June 11, 2002 (67 FR 40004).

To support the request for reconsideration, the applicant provided additional information explaining the support and production functions performed by the subject workers. The company also indicated that the subject workers were working exclusively for a TAA certified facility.

Upon examination of the data supplied by the applicant, it became apparent that the workers were engaged in activities related to the production of an article. The workers were contract workers engaged in the production of medical x-ray film and the polyester base chemicals used in the manufacture of medical x-ray film at Afga Corporation, Cedar Mountain, North Carolina. The Afga plant was certified for Trade Adjustment Assistance under TA-W-40,818 under Afga Corporation, Brevard, North Carolina on March 31, 2002. The Brevard location is the post office address of the Afga Corporation, the physical plant is located in Cedar Mountain, North Carolina, the same location as the subject firm workers.

Based on the decision in case TA-W-40,818 and data supplied by the subject firm, it has become evident that all criteria have been met for the Enerflex, Inc. contractors working at Afga Corporation engaged in support and production activities at the certified plant. Plant sales, production and employment declined and Afga imports of film like or directly competitive with what the subject plant produced increased during the relevant period.

Conclusion

After careful review of the additional facts obtained on reconsideration, I conclude that increased imports of articles like or directly competitive with those produced at Afga Corporation, Cedar Mountain, North Carolina contributed importantly to the declines in the total or partial separation of Enerflex, Inc., Cedar Mountain, North Carolina workers, who performed work in direct support of the production of medical x-ray film and the polyester base chemicals at the Afga plant. In accordance with the provisions of the Act, I make the following certification:

“Workers of Enerflex, Inc., Cedar Mountain, North Carolina engaged in employment activities related to the production of medical x-ray film and the polyester base chemicals at Afga Corporation, Cedar Mountain, North Carolina, who became totally or partially separated from employment on or after March 29, 2001 through two years from the date of this certification, are eligible to apply for adjustment assistance under Section 223 of the Trade Act of 1974.”

Signed in Washington, DC this 25th day of July 2002.
Edward A. Tomchick,
Director, Division of Trade Adjustment Assistance.

[FR Doc. 02-19969 Filed 8-6-02; 8:45 am]

BILLING CODE 4510-30-P